DEPARTMENT OF HEALTH AND HUMAN SERVICES

National Institutes of Health

Center for Scientific Review; Amended Notice of Meeting

Notice is hereby given of a change in the meeting of the Center for Scientific Review Special Emphasis Panel, November 8, 2006, 3:30 p.m. to November 8, 2006, 5:30 p.m., National Institutes of Health, 6701 Rockledge Drive, Bethesda, MD 20892, which was published in the Federal Register on October 27, 2006, 71 FR 63029-63030.

The meeting will be held December 12, 2006, from 2 p.m. to 4:30 p.m. The meeting location remains the same.

The meeting is closed to the public.

Dated: November 15, 2006.
Anna Snouffer,
Acting Director, Office of Federal Advisory Committee Policy.

[FR Doc. 06-9318 Filed 11-21-06; 8:45 am]

BILLING CODE 4140-01-M